DEPARTMENT OF HEALTH AND HUMAN SERVICES

Office of Refugee Resettlement

Extending Refugee Cash Assistance and Refugee Medical Assistance From 8 Months to 12 Months

AGENCY: Office of Refugee Resettlement (ORR), Administration for Children and Families (ACF), Department of Health and Human Services (HHS).

ACTION: Notice of change of eligibility period.

SUMMARY: In accordance with ORR regulations, the Director of ORR is announcing the expansion of the Refugee Cash Assistance (RCA) and Refugee Medical Assistance (RMA) eligibility period from 8 months to 12 months of assistance for participants whose date of eligibility for ORR benefits is on or after October 1, 2021. Through the Refugee Act of 1980, Congress authorized cash and medical assistance up to 36 months, yet by fiscal year (FY) 1992, mainly due to insufficient appropriations, ORR had reduced the RCA and RMA eligibility periods to 8 months. For 30 years, ORR has not increased the RCA or RMA eligibility period. Extending the RCA and RMA eligibility period will lead to more effective resettlement, by providing refugee and other ORR-eligible populations with additional time to become self-sufficient.

DATES: The changes described in this Federal Register notice are effective as of the date of publication.

FOR FURTHER INFORMATION CONTACT: Colleen Mahar-Piersma, Refugee Policy Unit, Division of Policy and Procedures, Office of the Director, Office of Refugee Resettlement, Administration for Children and Families, by phone at (202) 260-5493, and email at refugeepolicy@acf.hhs.gov.

SUPPLEMENTARY INFORMATION: The 1980 Refugee Act (8 U.S.C. 1522(e)(1)) authorized the Director of ORR (hereinafter “the Director”) to provide RCA and RMA during the first 36 months after a refugee's arrival in the United States or, for other ORR-eligible populations, after they became eligible for ORR benefits and services. (ORR-eligible populations, hereinafter referred to as “refugees,” are outlined within ORR Policy Letter (PL) 16-01, Documentation Requirements for the Refugee Resettlement Program and ORR PL 22-02, Additional ORR-Eligible Statuses and Categories and Acceptable Documentation Requirements for Afghan Nationals.)

ORR regulations (45 CFR 400.211(a)) authorize the Director to determine the time-eligibility period for RCA and RMA each year based on the appropriated funds available for the fiscal year. After Congress passed the Refugee Act of 1980, ORR provided refugees with RCA and RMA for the first 36 months after a refugee's arrival. However, due to reduced appropriations, ORR had to decrease this assistance from 36 months to 18 months, then to 12 months, and finally, in FY 1992, to 8 months.

The proposed expansion of the RCA and RMA eligibility period would positively impact refugees who are not eligible for Temporary Assistance for Needy Families or Medicaid. Increasing the RCA and RMA eligibility period enables refugees to address any medical and mental health issues that would impede their ability to become self-sufficient. Additionally, an expanded eligibility period allows refugees to focus on the Congressional priorities for assistance, as outlined in the Refugee Act, of acquiring English, receiving employment training, and securing employment, with the increase in English skills and professional development potentially facilitating employment at higher wagers, a benefit not only for their families but for every community where they reside.

Refugees whose date of eligibility for ORR benefits is in FY 2022 (on or after October 1, 2021) are eligible for the expanded RCA and RMA eligibility period.

(Authority: 45 CFR 400.211)

Dated: March 22, 2022.
Cindy Huang,
Director of the Office of Refugee Resettlement.

[FR Doc. 2022-06356 Filed 3-25-22; 8:45 am]

BILLING CODE 4120-27-P